DEPARTMENT OF THE INTERIOR

Fish and Wildlife Service

[FWS-R7-R-2011-N273; FXRS12650700000U4-123-FF07R06000]

Draft Environmental Impact Statement; Izembek National Wildlife Refuge Land Exchange/Road Corridor, Cold Bay, AL

AGENCY: Fish and Wildlife Service, Interior.

ACTION: Notice of availability and request for comments; announcement of public meetings.

SUMMARY: We, the U.S. Fish and Wildlife Service (Service), announce the availability of a draft environmental impact statement (DEIS) for the Izembek National Wildlife Refuge proposed land exchange/road corridor for public review and comment. In the DEIS, we describe the purpose and need, the proposed action, alternatives, and impact analysis for the proposed land exchange/road corridor of certain lands owned by the United States and managed by the Service, certain lands owned by the State of Alaska, and certain lands owned by the King Cove Corporation. The DEIS also evaluates a proposed road corridor through the Izembek National Wildlife Refuge and the Izembek Wilderness Area.

DATES: To ensure consideration, please send your written comments by May 18, 2012. We will hold public meetings in the five communities within and near the Refuge, and also in the city of Anchorage, in Alaska. We will announce these upcoming public meetings in local news media.

ADDRESSES: You may submit comments or requests for copies or more information by any of the following methods. You may request a summary of the DEIS, or a CD-ROM containing the summary and full DEIS.

Agency Web Site: Download a copy of the summary or full DEIS document at http://izembek.fws.gov/EIS.htm.

Email: izembek_eis@fws.gov; include “Izembek National Wildlife Refuge DEIS” in the subject line of the message.

Fax: Attn: Stephanie Brady, Project Team Leader, (907) 786-3965.

U.S. Mail: Stephanie Brady, Project Team Leader, U.S. Fish and Wildlife Service, 1011 East Tudor Rd., MS-231, Anchorage, AK 99503.

In-Person Pickup or Drop-off: You may pick up a copy or drop off comments during regular business hours at the address listed above.

FOR FURTHER INFORMATION CONTACT: Stephanie Brady, (907) 786-3357, or at the addresses above.

SUPPLEMENTARY INFORMATION:

Introduction

With this notice, we continue the EIS process for the Izembek National Wildlife Refuge land exchange/road corridor proposal. We started this process with notices of intent in the Federal Register (74 FR 39336; August 6, 2009; 75 FR 8396; February 24, 2010), indicating the beginning of the scoping period and publishing the dates and locations of the scoping meetings.

The Izembek National Wildlife Refuge (417,533 acres) and the North Creek (8,452 acres) and Pavlof (1,447,264 acres) units of the Alaska Peninsula National Wildlife Refuge are located at the westernmost tip of the Alaska Peninsula. To the north of the Izembek Refuge is the Bering Sea; to the south is the Pacific Ocean. The Alaska Peninsula is dominated by the rugged Aleutian Range, part of the Aleutian arc chain of volcanoes. Landforms include mountains, active volcanoes, U-shaped valleys, glacial moraines, low tundra wetlands, lakes, sand dunes, and lagoons. Elevations range from sea level to the 9,372-foot Shishaldin Volcano. Shishaldin Volcano is a designated National Natural Landmark. Alaska Maritime National Wildlife Refuge stretches from the Arctic Ocean to the southeast panhandle of Alaska and protects breeding habitat for seabirds, marine mammals, and other wildlife on more than 2,500 islands, spires, rocks, and coastal headlands.

Background

On December 6, 1960, Public Land Order 2216 established the 498,000-acre Izembek National Wildlife Range, which included Izembek Lagoon and its entire watershed near the tip of the Alaska Peninsula as “a refuge, breeding ground and management area for all forms of wildlife.” Eighty-four thousand, two hundred acres of this national wildlife range, including Izembek Lagoon, are state lands under the Submerged Lands Act, 43 U.S.C. 1312. The State of Alaska established the Izembek State Game Refuge to continue protecting the rare resources of Izembek Lagoon in 1972. In December 1980, the Alaska National Interest Lands Conservation Act (ANILCA; Pub. L. 96-487) was enacted. Section 303(3) redesignated the existing Izembek National Wildlife Range, containing the 417,533-acre watershed surrounding Izembek Lagoon, as the Izembek National Wildlife Refuge.

As described in ANILCA, Izembek Refuge purposes include the following:

(i) To conserve fish and wildlife populations and habitats in their natural diversity * * *;

(ii) To fulfill the international treaty obligations of the United States with respect to fish and wildlife and their habitats;

(iii) To provide, in a manner consistent with the purposes set forth in subparagraphs (i) and (ii), the opportunity for continued subsistence uses by local residents; and

(iv) To ensure, to the maximum extent practicable and in a manner consistent with the purposes set forth in paragraph (i), water quality and necessary water quantity within the refuge.

Section 702(6) of ANILCA also designated 300,000 acres (72%) of the Izembek Refuge Unit as wilderness. The Wilderness Act creates additional purposes for designated wilderness areas within refuge boundaries. Specifically, these areas are to be managed “for the use and enjoyment of the American people in such manner as will leave them unimpaired for future use and enjoyment as wilderness, and so as to provide for the protection of these areas, the preservation of their wilderness character, and for the gathering and dissemination of information regarding their use and enjoyment as wilderness.” The Wilderness Act specifically prohibits the construction of permanent roads through wilderness area designated under the Act.

The Izembek Refuge is inhabited by a diverse and abundant community of fish and wildlife. Izembek Lagoon and adjacent coastal waters and wetlands form one of the most important migratory bird staging habitats in the world. In recognition of that, in 2001 it was designated as a Globally Important Bird Area by the American Bird Conservancy for its importance to internationally migrating birds. Hundreds of thousands of geese, ducks, and shorebirds use the Izembek Refuge's wetlands and the adjacent lagoons to rest and feed during their long migrations between arctic breeding areas and their diverse wintering areas, some as far away as South America and New Zealand. Each spring and fall, Izembek Lagoon provides staging habitat for more than 90% of the world's population of Pacific brant and many sea ducks and other waterbirds winter at the Izembek Refuge and adjacent marine waters.

Together, the Izembek Refuge and Izembek State Game Refuge, which encompasses the tidelands of Izembek Lagoon, were recognized for the area's extraordinary ecological values when they became one of the first sites in North America to be designated a Wetland of International Importance under the Ramsar convention, one of only 19 such sites within the United States. Izembek Lagoon supports some of the most extensive remaining eelgrass meadows in the world, providing a rich environment for waterbirds and other wildlife. The Refuge was also designated as a Globally Important Bird Area by the American Bird Conservancy for its importance to internationally migrating birds. Izembek Lagoon and adjacent habitats qualify as a site of Regional Importance (hosts at least 20,000 birds annually) and likely International Importance (hosts at least 100,000 birds annually) in the Western Hemispheric Shorebird Reserve Network (WHSRN). The lagoon's barrier islands protect the eelgrass habitat and wildlife species from the dramatic storms of the Bering Sea.

The Izembek Refuge also supports species of concern such as the threatened Steller's Eider, threatened sea otter, threatened Steller Sea Lion, tundra swan, black brant, gray-bellied brant, and Emperor Goose. Wildlife habitat throughout the Izembek Wilderness currently maintains a high level of connectivity providing undisturbed habitat for brown bears, caribou, moose, salmon and countless migratory birds. Additionally, caribou use Izembek Refuge as wintering grounds and brown bear use the area around the isthmus for denning. Red fox, wolves and wolverines are found on the refuge and harbor seals can be seen along the coastline and in the lagoons. Coho, chum, sockeye and pink salmon return in great numbers to the many streams of Izembek Refuge to spawn each year.

The Refuge also has a rich human history, from ancient settlements of Alaska Natives, through the 18th and 19th century Russian fur traders, to a World War II outpost. The Izembek Wilderness covers most of the refuge and includes pristine streams, extensive wetlands, steep mountains, tundra, and sand dunes, and provides high scenic, wildlife, and scientific values, as well as outstanding opportunities for solitude and primitive recreation. The overall remoteness of the Izembek National Wildlife Refuge and associated wilderness also lends itself to providing visitors with outstanding opportunities for primitive and unconfined recreation. Currently, the narrow isthmus separating the Bering Sea from the North Pacific is not fragmented by road construction and provides connectivity of habitat for many species inhabiting the southern Alaska Peninsula region. In addition to lands within Izembek Refuge, the land exchange involves parcels on Sitkinak Island within Alaska Maritime National Wildlife Refuge and parcels owned by the King Cove Corporation and the State of Alaska. Sitkinak Island is primarily owned by the State of Alaska, with two parcels owned by the Service. Some of the State of Alaska lands proposed for exchange would become part of the Alaska Peninsula National Wildlife Refuge if the exchange is approved.

The King Cove Corporation is an Alaska Native Village Corporation established under the Alaska Native Claims Settlement Act of 1971 (43 U.S.C. 1601 et seq.) (ANCSA). Under the authority of ANCSA, Congress granted King Cove Corporation land entitlements within and adjacent to Izembek Refuge. The State of Alaska also owns lands, submerged lands, shorelands, and tidelands within and adjacent to Izembek and Alaska Peninsula Refuges, including the Izembek State Game Refuge.

Prior legislation and an EIS also focused on providing access between the communities of King Cove and Cold Bay. The King Cove Health and Safety Act (Section 353) of the Omnibus Consolidated and Emergency Supplemental Appropriations Act of 1999 (Pub. L. 105-227) provided appropriations of $37.5 million for the Aleutians East Borough to construct a marine-road link between the communities of King Cove and Cold Bay ($20 million). This law also provided appropriation for improvements to the King Cove Airport ($15 million) and King Cove Clinic ($2.5 million). The conference committee report on this law stated the committees have agreed to these funds as an alternative to an easement for a road through the Izembek National Wildlife Refuge wilderness area to address critical health and safety needs.

The U.S. Army Corps of Engineers completed the King Cove Access Project EIS and issued a Record of Decision addressing the marine-road link in 2003. The road was constructed to Lenard Harbor, where hovercraft support facilities were installed. A hovercraft was purchased and began operating in 2007. Hovercraft transit service was provided by the Aleutians East Borough until November 2010. King Cove residents continued to advocate for a road as the safest and most reliable transportation system.

In 2009 the Omnibus Public Land Management Act of 2009 (Act), Public Law 111-11; 123 Stat. 991, was enacted. Subject to complying with the requirements of the Act, it authorized the Secretary of the Interior to enter into a land exchange between the Service and State of Alaska and between the Service and the King Cove Corporation for the purpose of constructing a single-lane gravel road between the communities of King Cove and Cold Bay, Alaska through Izembek National Wildlife Refuge. The land exchange would involve the removal of approximately 200 acres within the Izembek National Wildlife Refuge, including lands within the wilderness portion of the Refuge, for the road corridor, and approximately 1,600 acres of Federal land within the Alaska Maritime National Wildlife Refuge on Sitkinak Island. In exchange, we would receive approximately 43,093 acres of land owned by the State of Alaska and approximately 13,300 acres of land owned by the King Cove Corporation. The lands from the State of Alaska would be designated wilderness, as would the approximately 2,565 acres of lands from the King Cove Corporation. These lands are located around Cold Bay and adjacent to the North Creek Unit of Alaska Peninsula National Wildlife Refuge.

The extraordinary wildlife and wilderness resources of Izembek National Wildlife Refuge have been recognized for their national and international significance. Congress designated the wilderness area for its outstanding opportunities for solitude and primitive and unconfined type of recreation. It contains outstanding ecological, geological, or other features of scientific, educational, scenic, and historical value. It has retained its primeval character and influence, without permanent improvements or human habitation, and is currently managed to protect and preserve its natural conditions. Section 6402(b) of the Act, requires the Service to prepare an environmental impact statement (EIS) under the National Environmental Policy Act of 1969, as amended (42 U.S.C. 4321 et seq.), and its implementing regulations (40 CFR parts 1500-1508). The Act directs that the EIS analyze the proposed land exchange and the potential construction and operation of a road between the communities of King Cove and Cold Bay, Alaska. The Act requires that the Service identify a specific road corridor through the Refuge in consultation with the State, the City of King Cove and the Agdaagux Tribe of King Cove. Following completion of the EIS and Record of Decision section 6402(d) of the Act requires the Secretary to determine whether the land exchange (including the construction of a road between the City of King Cove, Alaska, and the Cold Bay Airport) is in the public interest.

EIS Alternatives We Are Considering

Subject to complying with the requirements of the Act, the Secretary of the Interior is authorized to consider a land exchange between the Service and State of Alaska and between the Service and the King Cove Corporation for the purpose of constructing a single-lane gravel road between the communities of King Cove and Cold Bay, Alaska. The Act also required that we prepare this draft EIS. The Agdaagux Tribe of King Cove, Aleutians East Borough, City of King Cove, Federal Highway Administration/Western Federal Lands, King Cove Corporation, Native Village of Belkofski, State of Alaska, and U.S. Army Corps of Engineers, Alaska District (Corps) are formal cooperators in the preparation of this draft EIS. The Service is the lead agency.

The DEIS includes evaluation of two specific potential road corridors through the Izembek Refuge and wilderness that were identified in consultation with the State of Alaska, the City of King Cove, and the Agdaagux Tribe of King Cove. We developed and evaluated the following alternatives, summarized in the table and described briefly below. A full description of each alternative is in the DEIS.

Alternative 1 No Action | Alternative 2 | Alternative 3 | Alternative 4 | Alternative 5
No land exchange. Current modes of transportation, including air and marine | Land Exchange and southern road alignment through Izembek refuge and wilderness | Land Exchange and northern alignment through Izembek refuge and wilderness | Hovercraft operation 6 days per week from northeast hovercraft terminal to Cross Wind Cove | Lenard Harbor ferry with Cold Bay dock improvements.

Alternative 1—No Action

Under Alternative 1, the Service would not enter into a land exchange with King Cove Corporation and the State of Alaska for the purpose of constructing a road between King Cove and Cold Bay, Alaska. Current modes of transportation between the cities of King Cove and Cold Bay would continue to operate, including air, personal marine vessels, ferry service approximately twice per month in the summer season, and seasonal hovercraft service. This alternative assumes that The Aleutians East Borough would reinstitute hovercraft service between the new northeast terminal and Cross Wind Cove in 2013. Scheduled hovercraft service would be three days per week during the months of April through October.

As the DEIS was approaching completion, the Aleutians East Borough sent the Service a letter stating that they will not resume hovercraft service in the foreseeable future. The final EIS will reflect the current status of the hovercraft and other changes that are made in response to public comments.

Alternative 2—Land Exchange and Southern Road Alignment

Alternative 2 proposes a land exchange between the federal government, State of Alaska, and King Cove Corporation as described in the Proposed Action. The estimated amount of federal land exchanged in this alternative for the road corridor would be 201 acres, including 131 acres in Izembek Wilderness, assuming a 100-foot corridor width.

Alternative 3—Land Exchange and Central Road Alignment

Alternative 3 proposes a land exchange between the federal government, State of Alaska, and King Cove Corporation, as described in the Proposed Action. The estimated amount of federal land exchanged in this alternative for the road corridor would be 227 acres, including 152 acres in Izembek Wilderness, assuming a 100-foot corridor width.

Alternative 4—Hovercraft Operations From the Northeast Hovercraft Terminal to Cross Wind Cove (Six Days Per Week)

Alternative 4 is the Proposed Action in the 2003 EIS for the King Cove Access Project completed by the U.S. Army Corps of Engineers. The alternative considered in this EIS would not require further construction activities; the alternative will consider operations of the hovercraft, as described in the 2003 EIS, for service 6 days per week between the Northeast Hovercraft Terminal and the Cross Wind Cove. As the DEIS was approaching completion, the Aleutians East Borough sent the Service a letter stating they will not resume hovercraft service in the foreseeable future.

Alternative 5—Lenard Harbor Ferry With Cold Bay Dock Improvements

Alternative 5 would use a ferry to travel 14 miles between a terminal in Lenard Harbor and a substantially modified Cold Bay dock. This alternative is similar to an alternative that was analyzed in the 2003 EIS, with the exception of project elements that have been permitted or constructed to date, including the access road to the site, a terminal building with associated utility infrastructure, and a parking area. However, the Lenard Harbor terminal structure has been damaged by a storm, and would have to be replaced. Upgrades to the parking area and security fencing would also be necessary. Ferry service would be provided 6 days per week.

Preferred Alternative

There is no preferred alternative selected for the Draft EIS. We will evaluate public comments and have a preferred alternative in the final EIS.

Public Review

We started the EIS for Izembek Refuge land exchange/road corridor in August 2009. At that time and throughout the planning process, we requested public comments and considered and incorporated them in numerous ways. In January 2010, we published a scoping newsletter describing the process for the EIS and informing the public of upcoming scoping meetings, and how they could be informed or involved. In October 2010, we published another newsletter informing the public of the issues identified during scoping. These newsletters were mailed to approximately 1,000 individuals, agencies, and organizations, and the documents were available over the Internet at http://izembek.fws.gov/eis.htm.

To gather additional input from the public, we held seven public open house meetings—five in communities adjacent to or within the boundaries of the Izembek Refuge; one in Washington, DC; and one in Anchorage, Alaska.

Individuals and organizations provided 31,568 comments during the scoping process. The responses came in emails, web forms, postcards, faxes, letters, and public hearing transcripts. Approximately 87 people spoke at meetings in 7 communities. The responses were reviewed, coded, and analyzed. Comments were sorted into broad issue groups including:

1. NEPA process (permits, the EIS, consultation and coordination);

2. Purpose and need for the action;

3. Proposed action, alternatives, and mitigation measures;

4. Affected environment, environmental consequences, and potential direct, indirect, and cumulative impacts; and

5. Data and available information.

We considered and evaluated these issues and public concerns, and used them to develop various aspects of the DEIS. The DEIS is now available for public review. As described in the following sections, the public may obtain copies of the DEIS summary, compact discs of the full document or view the document on our web site. Comments may be submitted at public meetings or via email, regular mail or fax. Once the public comment period ends, the comments will be analyzed and used to craft the final EIS which will be released later this year.

Public Availability of Documents

In addition to any methods in ADDRESSES, you can view or obtain documents at our Web site: http://izembek.fws.gov/EIS.htm.

Public Meetings

We will involve the public through open houses, meetings, and written comments. We will mail documents to our national and local Refuge mailing lists. Public open house meetings will be held in Anchorage, Cold Bay, False Pass, King Cove, Nelson Lagoon and Sand Point, Alaska. Dates, times, and locations of each meeting or open house will be announced in advance in local media and on our Web sites.

Submitting Comments/Issues for Comment

We particularly seek comments on the issues and alternatives addressed in the DEIS. We will respond to all substantive comments in the final EIS.

We consider comments substantive if they:

• Question, with reasonable basis, the accuracy of the information in the document;

• Question, with reasonable basis, the adequacy of the environmental assessment;

• Present reasonable alternatives other than those presented in the draft EIS; and/or

• Provide new or additional information relevant to the assessment.

Next Steps

After this comment period ends, we will analyze the comments and address them in the form of a final EIS and decision document.

Public Availability of Comments

Before including your address, phone number, email address, or other personal identifying information in your comment, you should be aware that your entire comment—including your personal identifying information—may be made publicly available at any time. While you can ask us in your comment to withhold your personal identifying information from public review, we cannot guarantee that we will be able to do so.

Dated: March 13, 2012.
Geoffrey L. Haskett,
Regional Director, U.S. Fish and Wildlife Service, Anchorage, Alaska.

[FR Doc. 2012-6476 Filed 3-16-12; 8:45 am]

BILLING CODE P